DEPARTMENT OF LABOR

Employment and Training Administration

[TA-W-60,190]

Cooper Power Tools, Inc., Dayton Operations, Dayton, OH; Notice of Termination of Investigation

Pursuant to Section 221 of the Trade Act of 1974, an investigation was initiated on October 3, 2006 in response to a petition filed by a company official and the United Worker Union, Local 1040 on behalf of workers at Cooper Power Tools, Inc., Dayton Operations, Dayton, Ohio.

The petitioners have requested that the petition be withdrawn. Consequently, the investigation has been terminated.

Signed in Washington, DC, this 18th day of October 2006.
Elliott S. Kushner,
Certifying Officer, Division of Trade Adjustment Assistance.

[FR Doc. E6-17865 Filed 10-24-06; 8:45 am]

BILLING CODE 4510-30-P